Title 3—

The President

Proclamation 9746 of May 10, 2018

Military Spouse Day, 2018

By the President of the United States of America

A Proclamation

Since the founding of our Republic, military spouses have served alongside their loved ones and played vital roles in the defense of our country. Their selfless support, volunteer spirit, and significant contributions have left indelible marks on our military and communities. On Military Spouse Day, we pay tribute to these remarkable patriots, past and present, including the incredible women and men who currently serve, in steadfast support of America's Armed Forces, as our Nation's military spouses.

Military Spouse Day is an opportunity to thank the inspirational men and women who are the foundation of our Nation's military families. Their countless sacrifices and tireless devotion to this country, and to those who defend her, are invaluable and irreplaceable. Military spouses shoulder the burdens of a challenging and demanding lifestyle with pride, strength, and determination. They demonstrate uncommon grace and grit, and although most military spouses do not wear a uniform, they honorably serve our Nation—often times without their loved one standing beside them.

We ask so much of our military spouses: frequent moves; heartbreaking separations; parenting alone; incomplete celebrations; and weeks, months, and sometimes years of waiting for a loved one's safe return from harm's way. Time and time again, however, military spouses respond with resilience that defies explanation. Our service members are often praised as national heroes, but their spouses are equally worthy of that distinction.

My Administration is committed to taking care of our Armed Forces and ensuring that our military is equipped to defend our country and protect our way of life. This mission also includes caring for the unique needs of military spouses, whose service to our Nation cannot be overstated.

Too often, military life can interfere with the aspirations and dreams of our military spouses. For example, frequent and often unexpected moves can impair career and academic goals. Even as our economy prospers, military spouses continue to face an unemployment rate far higher than the national average, up to 16 percent in 2017. Further, data from the 2016 American Community Survey indicates that military spouses suffer from underemployment at a greater rate than Americans more broadly, at an estimated 31.4 percent compared to 19.6 percent overall. All of these are added and unnecessary burdens on military families.

We can and will do better, which is why my Administration will continue to focus on enhancing employment opportunities for military spouses. On May 9, I signed an Executive Order to enhance opportunities for military spouses looking for employment in the Federal Government. This action promotes the use of an existing hiring authority for military spouses and seeks to provide significantly greater opportunity for military spouses to be considered for Federal Government positions.

Beyond the Federal Government, I encourage every American business, large and small, to find ways to employ military spouses, and keep them employed as they relocate—sometimes every 2 or 3 years—to new duty stations. More than 360 employers with regional and national footprints have made this commitment through the Department of Defense's Military Spouse Employment Partnership. In less than 7 years, these patriotic partners have hired more than 112,000 military spouses. We are grateful for these employment opportunities and hope to see many more businesses participate in this important initiative.

In addition, many military spouses encounter unnecessary delays remaining in the workforce following a change in duty station. These spouses are more likely than other workers to face barriers to employment due to the impact of occupational licensing laws, since they frequently move across State lines and are disproportionately employed in occupations that require a license. Existing State laws regarding license portability are insufficient. States and occupational licensing boards can and must do more to improve the license portability to facilitate career continuity and ease financial burdens on our military families.

As we observe Military Spouse Day, we salute generations of military spouses for their leadership, courage, love, patriotism, and unwavering support for the courageous men and women of our Armed Forces. On this day, Melania and I offer our deepest respect and gratitude to every person who has embraced this noble calling in proud service to our Nation as a military spouse.

NOW, THEREFORE, I, DONALD J. TRUMP, President of the United States of America, by virtue of the authority vested in me by the Constitution and the laws of the United States, do hereby proclaim May 11, 2018, as Military Spouse Day. I call upon the people of the United States to honor military spouses with appropriate ceremonies and activities.

IN WITNESS WHEREOF, I have hereunto set my hand this tenth day of May, in the year of our Lord two thousand eighteen, and of the Independence of the United States of America the two hundred and forty-second.

[FR Doc. 2018-10453

Filed 5-14-18; 8:45 am]

Billing code 3295-F8-P